DEPARTMENT OF ENERGY

Federal Energy Regulatory Commission

[Project No. 2985-007]

The Mead Corporation, MW Custom Papers, LLC, Onyx Specialty Papers, Inc.; Notice of Application for Transfer of License and Soliciting Comments and Motions To Intervene

October 13, 2009.

On October 9, 2009, The Mead Corporation and MW Custom Papers, LLC (transferors) and Onyx Specialty Papers, Inc. (transferee), filed an application for transfers of license of the Willow Mill Project, located on the Housatonic River in Berkshire County, Massachusetts.

Applicants seek Commission approval to transfer the license for the Willow Mill Project from the transferors to the transferee.

Applicant Contact: Transferors: Mr. John Clements, Van Ness Feldman, 1050 Thomas Jefferson Street, NW., Washington, DC 20007, Phone (202) 298-1933. Transferee: Mr. Gary L. Fialty, Bacon Wilson, P.C., 33 State Street, Springfield, MA 01103, Phone (413) 739-7740.

FERC Contact: Henry Woo, (202) 502-8872.

Deadline for filing comments and motions to intervene: October 29, 2009. Comments and motions to intervene may be filed electronically via the Internet. See 18 CFR 385.2001(a)(1)(iii)(2008) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of the Commission's Web site at http://www.ferc.gov/docs-filing/elibrary.asp. Enter the docket number (P-2985-007) in the docket number field to access the document. For assistance, call toll-free 1-866-208-3372.

Kimberly D. Bose,
Secretary.

[FR Doc. E9-25095 Filed 10-16-09; 8:45 am]

BILLING CODE 6717-01-P